DEPARTMENT OF THE TREASURY

Office of Thrift Supervision

[AC-4: OTS Nos. H-4144 and 02402]

BankFinancial Corporation, Burr Ridge, IL; Approval of Conversion Application

Notice is hereby given that on April 15, 2005, the Assistant Managing Director, Examinations and Supervision—Operations, Office of Thrift Supervision (OTS), or her designee, acting pursuant to delegated authority, approved the application of BankFinancial, F.S.B., Burr Ridge, Illinois, to convert to the stock form of organization. Copies of the application are available for inspection by appointment (phone number: 202-906-5922, or e-mail; Public.Info@OTS.Treas.gov) at the Public Reading Room, 1700 G Street, NW., Washington, DC 20552, and OTS Southeast Regional Office, 1475 Peachtree Street, NE., Atlanta, GA 30309.

Dated: April 18, 2005.
By the Office of Thrift Supervision,
Nadine Y. Washington,
Corporate Secretary.

[FR Doc. 05-8046 Filed 4-21-05; 8:45 am]

BILLING CODE 6720-01-M